DEPARTMENT OF ENERGY

Federal Energy Regulatory Commission

Combined Notice of Filings #1

Take notice that the Commission received the following electric rate filings:

Docket Numbers: ER10-1484-009.

Applicants: Shell Energy North America (US), L.P.

Description: Updated Market Power Analysis for the Northeast Region of Shell Energy North America (US), L.P.

Filed Date: 6/25/14.

Accession Number: 20140625-5110.

Comments Due: 5 p.m. ET 8/25/14.

Docket Numbers: ER10-3195-003; ER10-3194-003

Applicants: MATEP Limited Partnership, MATEP LLC.

Description: Updated Market Power Analysis for the Northeast Region of MATEP Limited Partnership, et. al.

Filed Date: 6/25/14.

Accession Number: 20140625-5070.

Comments Due: 5 p.m. ET 8/25/14.

Docket Numbers: ER10-3260-004.

Applicants: Granite Ridge Energy, LLC.

Description: Triennial Market Power Report of Granite Ridge Energy, LLC.

Filed Date: 6/25/14.

Accession Number: 20140625-5106.

Comments Due: 5 p.m. ET 8/25/14.

Docket Numbers: ER10-3286-005; ER10-3299-004.

Applicants: Millennium Power Partners, L.P., New Athens Generating Company, LLC.

Description: Triennial Market Power Report of Millennium Power Partners, L.P., et. al.

Filed Date: 6/25/14.

Accession Number: 20140625-5071.

Comments Due: 5 p.m. ET 8/25/14.

Docket Numbers: ER14-1363-003.

Applicants: Kendall Green Energy LLC.

Description: Triennial Market Power Report for the Northeast Region of Kendall Green Energy LLC.

Filed Date: 6/25/14.

Accession Number: 20140625-5105.

Comments Due: 5 p.m. ET 8/25/14.

Docket Numbers: ER14-2046-001.

Applicants: Plum Point Energy Associates, LLC.

Description: Amendment re Reactive Power Application to be effective 9/1/2014.

Filed Date: 6/25/14.

Accession Number: 20140625-5059.

Comments Due: 5 p.m. ET 7/16/14.

Docket Numbers: ER14-2264-000.

Applicants: Northern Indiana Public Service Company.

Description: Filing of CIAC Agreement with IMPA to be effective 6/10/2014.

Filed Date: 6/25/14.

Accession Number: 20140625-5064.

Comments Due: 5 p.m. ET 7/16/14.

Docket Numbers: ER14-2265-000.

Applicants: MATEP Limited Partnership.

Description: MATEP LP 2nd Rev MBR re 784 AS to be effective 6/26/2014.

Filed Date: 6/25/14.

Accession Number: 20140625-5066.

Comments Due: 5 p.m. ET 7/16/14.

Docket Numbers: ER14-2266-000.

Applicants: Copper Mountain Solar 1, LLC.

Description: Copper Mountain Solar 1 Order No. 784 Compliance Filing to be effective 6/26/2014.

Filed Date: 6/25/14.

Accession Number: 20140625-5072.

Comments Due: 5 p.m. ET 7/16/14.

Docket Numbers: ER14-2267-000.

Applicants: Energia Sierra Juarez U.S., LLC.

Description: Energia Sierra Juarez Order No. 784 Compliance Filing to be effective 6/26/2014.

Filed Date: 6/25/14.

Accession Number: 20140625-5073.

Comments Due: 5 p.m. ET 7/16/14.

Docket Numbers: ER14-2268-000.

Applicants: Mesquite Power, LLC.

Description: Mesquite Power Order No. 784 Compliance Filing to be effective 6/26/2014.

Filed Date: 6/25/14.

Accession Number: 20140625-5074.

Comments Due: 5 p.m. ET 7/16/14.

Docket Numbers: ER14-2269-000.

Applicants: Termoelectrica U.S., LLC.

Description: Termoelectrica US Order No. 784 Compliance Filing to be effective 6/26/2014.

Filed Date: 6/25/14.

Accession Number: 20140625-5075.

Comments Due: 5 p.m. ET 7/16/14.

Docket Numbers: ER14-2270-000.

Applicants: NorthWestern Corporation.

Description: SA 721—City of Great Falls Construction Agreement to be effective 6/26/2014.

Filed Date: 6/25/14.

Accession Number: 20140625-5097.

Comments Due: 5 p.m. ET 7/16/14.

Docket Numbers: ER14-2271-000.

Applicants: Paradise Solar Urban Renewal, L.L.C.

Description: Paradise Solar Urban Renewal, L.L.C. Notice of Cancellation of MBR Tariff to be effective 6/26/2014.

Filed Date: 6/25/14.

Accession Number: 20140625-5103.

Comments Due: 5 p.m. ET 7/16/14.

Docket Numbers: ER14-2272-000.

Applicants: Central Maine Power Company.

Description: Termination of Interconnection Agreement and Transmission Service Agreement with the City of Lewiston of Central Maine Power Company.

Filed Date: 6/25/14.

Accession Number: 20140625-5116.

Comments Due: 5 p.m. ET 7/16/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2014.
Nathaniel J. Davis, Sr.,
Deputy Secretary.

[FR Doc. 2014-15844 Filed 7-7-14; 8:45 am]

BILLING CODE 6717-01-P